SECURITIES AND EXCHANGE COMMISSION

Sunshine Act Meeting

Notice is hereby given, pursuant to the provisions of the Government in the Sunshine Act, Public Law 94-409, that the Securities and Exchange Commission will hold an Open Meeting on Wednesday, February 10, 2016 at 10:00 a.m., in the Auditorium, RoomL-002.

The subject matter of the Open Meeting will be:

• The Commission will consider whether to adopt rules under the Securities Exchange Act of 1934 providing for the application of the Title VII security-based swap dealer de minimis counting requirements to security-based swap transactions connected with a non-U.S. person's dealing activity that are arranged, negotiated, or executed by personnel located in a U.S. branch or office or by personnel of an agent of such non-U.S. person located in a U.S. branch or office.

At times, changes in Commission priorities require alterations in the scheduling of meeting items.

For further information and to ascertain what, if any, matters have been added, deleted, or postponed, please contact:

The Office of the Secretary at (202) 551-5400.

Dated: February 3, 2016.
Brent J. Fields,
Secretary.

[FR Doc. 2016-02490 Filed 2-4-16; 11:15 am]

BILLING CODE 8011-01-P